DEPARTMENT OF LABOR

Employment and Training Administration

[TA-W-54,512]

Snow River Products, Crandon, WI; Notice of Termination of Investigation

Pursuant to section 221 of the Trade Act of 1974, as amended, an investigation was initiated on March 16, 2004, in response to a petition filed by a company official on behalf of workers at Snow River Products, Crandon, Wisconsin.

The petitioner has requested that the petition be withdrawn. Consequently, the investigation has been terminated.

Signed in Washington, DC this 2nd day of April, 2004.
Elliott S. Kushner,
Certifying Officer, Division of Trade Adjustment Assistance

[FR Doc. E4-1003 Filed 5-3-04; 8:45 am]

BILLING CODE 4510-13-P